DEPARTMENT OF HEALTH AND HUMAN SERVICES

National Institutes of Health

Center for Scientific Review; Amended Notice of Meeting

Notice is hereby given of a change in the meeting of the Surgery, Anesthesiology and Trauma Study Section, October 02, 2013, 08:00 a.m. to October 03, 2013, 05:00 p.m., The Allerton Hotel, 701 North Michigan Avenue, Chicago, IL, 60611 which was published in the Federal Register on September 03, 2013, 78 FR Pgs. 54259-54261.

The meeting will start on December 9, 2013 at 8:00 a.m. and end on December 10, 2013 at 5:00 p.m. The meeting location remains the same. The meeting is closed to the public.

Dated: October 23, 2013.
David Clary,
Program Analyst, Office of Federal Advisory Committee Policy.

[FR Doc. 2013-25474 Filed 10-28-13; 8:45 am]

BILLING CODE 4140-01-P